NUCLEAR REGULATORY COMMISSION

[Docket 72-10]

Nuclear Management Company, LLC; Prairie Island Independent Spent Fuel Storage Installation; Issuance of Environmental Assessment and Finding of No Significant Impact Regarding the Proposed Amendment To Revise the License and Technical Specifications of License No. SNM-2506

The U.S. Nuclear Regulatory Commission (NRC or Commission) is considering issuance of an amendment, pursuant to 10 CFR 72.56, to the Special Nuclear Materials License No. 2506 (SNM-2506) held by the Nuclear Management Company, LLC (licensee) for the Prairie Island independent spent fuel storage installation (ISFSI). The requested amendment would revise the license and Technical Specifications of SNM-2506 to specifically permit the storage of burnable poison rod assemblies (BPRAs) and thimble plug devices (TBDs) within the TN-40 casks used at the Prairie Island ISFSI.

Environmental Assessment (EA)

Identification of Proposed Action

The staff is considering issuance of an amendment to revise the license and Technical Specifications of SNM-2506 for the Prairie Island ISFSI. The changes to the license and Technical Specifications would specifically permit the storage of BPRAs and/or TPDs within the TN-40 dry storage casks used at the Prairie Island ISFSI.

Need for the Proposed Action

The proposed action is needed to eliminate the need to physically remove BPRAs and TPDs from irradiated fuel assemblies that have already been loaded into the TN-40 dry storage casks and irradiated fuel assemblies that will be loaded into TN-40 dry storage casks in the future. Permitting the proposed action would result in the reduction of exposure time to plant workers handling the BPRAs and TPDs and a more effective ALARA program pursuant to 10 CFR 20.1101(b).

Environmental Impacts of the Proposed Action

The NRC has completed its evaluation of the proposed action and concludes that granting the amendment to specifically allow the storage of BPRAs and TPDs within the TN-40 casks used at the Prairie Island ISFSI will not increase the probability or consequences of accidents. No changes are being made in the types of any effluents that may be released offsite. With regard to radiological impacts, the addition of irradiated BPRAs and TPDs only affects the gamma source term of the cask. The offsite dose rates were calculated to increase an insignificant amount. Therefore, there are no significant radiological environmental impacts associated with the proposed action.

The amendment only affects the requirements associated with the content of the casks and does not affect non-radiological plant effluents or any other aspects of the environment. Therefore, there are no significant non-radiological environmental impacts associated with the proposed action.

Accordingly, the NRC concludes that there are no significant environmental impacts associated with the proposed action.

Alternative to the Proposed Action

Since there is no significant environmental impact associated with the proposed action, alternatives are not evaluated other than the no action alternative. The alternative to the proposed action would be to deny the request for amendment (i.e., the “no-action” alternative). Denial of the proposed action would result in greater exposures to plant workers due to the fact that the BPRAs and TPDs would have to be physically removed from each fuel assembly possessing them. Physical removal of irradiated BPRAs and TPDs would increase exposure time and dose to the plant workers and would require disposal or storage of additional radioactive material (i.e., BPRAs and TPDs) that would otherwise be safely stored if the BPRAs and TPDs are left intact with its irradiated fuel assembly and loaded into dry cask storage. The environmental impacts of the alternative action may be greater than the proposed action.

Given that there may be greater environmental impacts associated with the alternative action of denying the amendment, the Commission concludes that the preferred alternative is to grant this amendment request.

Agencies and Persons Consulted

On December 27, 2000, Mr. Rakow of the Minnesota Department of Commerce, Electric Unit, was consulted about the EA for the proposed action and had no concerns.

Finding of No Significant Impact

The environmental impacts of the proposed action have been reviewed in accordance with the requirements set forth in 10 CFR part 51. Based upon the foregoing EA, the Commission finds that the proposed action of granting an amendment to permit the storage of BPRAs and TPDs within the TN-40 casks used at the Prairie Island ISFSI will not significantly impact the quality of the human environment. Accordingly, the Commission has determined not to prepare an environmental impact statement for the proposed action.

For further details with respect to this action, see the amendment application dated August 31, 1999, as supplemented. These documents are available for public inspection at the Commission's Public Document Room, 11155 Rockville Pike, Rockville, MD.

Dated at Rockville, Maryland, this 21st day of January 2001.
For the Nuclear Regulatory Commission.
E. William Brach,
Director, Spent Fuel Project Office, Office of Nuclear Material Safety and Safeguards.

[FR Doc. 01-2481 Filed 1-26-01; 8:45 am]

BILLING CODE 7590-01-P